DEPARTMENT OF HEALTH AND HUMAN SERVICES

National Institutes of Health

Submission for OMB Review; 30-Day Comment Request; Collection of Grant and Contract Data That May Be of Interest to Historically Black Colleges and Universities (HBCUs) and Small Businesses (Office of the Director)

AGENCY: National Institutes of Health, HHS.

ACTION: Notice.

SUMMARY: In compliance with the Paperwork Reduction Act of 1995, the National Institutes of Health (NIH), Office of the Director, Office of Acquisitions and Logistics Management (OALM), Small Business Program Office (SBPO), has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Rachel Kenlaw, Program Analyst, NIH, Office of the Director, Office of Acquisitions and Logistics Management, Small Business Program Office, 6100 Executive Blvd., Suite 6E01G, Rockville, MD 20852, or call non-toll-free number (301) 451-6827 or Email your request, including your address, to: Rachel.Kenlaw@nih.gov.

SUPPLEMENTARY INFORMATION: This proposed information collection was previously published in the Federal Register on October 30, 2019, page 23681 (84 FR 23681) and allowed 60 days for public comment. No public comments were received. The purpose of this notice is to allow an additional 30 days for public comment. The National Institutes of Health, Office of the Director, Office of Acquisitions and Logistics Management, Small Business Program Office, may not conduct or sponsor, and the respondent is not required to respond to, an information collection that has been extended, revised, or implemented on or after October 1, 1995 unless it displays a currently valid OMB control number

In compliance with Section 3507(a)(1)(D) of the Paperwork Reduction Act of 1995, the National Institutes of Health (NIH) has submitted to the Office of Management and Budget (OMB) a request for review and approval of the information collection listed below.

Proposed Collection: Collection of grant and contract data that may be of interest to Historically Black Colleges and Universities (HBCUs) and small businesses, 0925 0767, exp., date 05/31/2023, REVISION, Office of the Director, Office of Acquisitions and Logistics Management, Small Business Program Office, National Institutes of Health (NIH).

Need and Use of Information Collection: The revision includes registration for system access and smart matching of opportunities between HBCUs and small business. Additionally, the revision provides reporting functionality within the system that provides valuable insight to the NIH SBPO about the HBCUs and small businesses. The HBCUs and teaming partners are required to complete an application to participate in the Path to Excellence and Innovation (PEI) initiative. Presidential Executive Order 13779, The White House Initiative to Promote Excellence and Innovation at HBCUs, mandates agencies to assist in strengthening HBCU's ability for equitable participation in federal programs and explore new ways to improve the relationship between the federal government and HBCUs. This initiative establishes how each agency intends to increase the capacity of HBCUs to compete effectively for federal grants, contracts, and cooperative agreements.

PEI is a comprehensive program to increase the capacity of HBCUs as they pursue funding opportunities at NIH. The PEI provides a platform to increase transparency between HBCUs and NIH by promoting outreach events and training opportunities while providing technical assistance. Through this initiative the SBPO will assist HBCUs in identifying NIH contracts, grants, and other funding programs to increase their institutional biomedical research capacity. Currently, there are six HBCU participants and each selected a minimum of one small business teaming partner to pursue NIH funding opportunities with.

OMB approval is requested for 3 years. There are no costs to respondents other than their time. The total estimated annualized burden hours are 186.

Estimated Annualized Burden Hours
Form name | Type of respondent | Number of respondents | Number of responses per respondent | Average burden per response (in hours) | Total annual burden hour
HBCU Pre-Solicitation Portal for Contracts and Grants | Private Sector | 13 | 18 | 45/60 | 176
Application for Small Business | Private Sector | 6 | 1 | 45/60 | 5
Application for Universities | Private Sector | 7 | 1 | 45/60 | 5
Total |  | 13 | 247 |  | 186

Dated: October 19, 2020.
Lawrence A. Tabak,
Principal Deputy Director, National Institutes of Health.

[FR Doc. 2020-23588 Filed 10-23-20; 8:45 am]

BILLING CODE 4140-01-P